COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before November 18, 2015.

ADDRESSES: Comments regarding the burden estimated or any other aspect of the information collection, including suggestions for reducing the burden, may be submitted directly to the Office of Information and Regulatory Affairs (“OIRA”) in OMB, within 30 days of the notice's publication, by email at OIRAsubmissions@omb.eop.gov. Please identify the comments by OMB Control No. 3038-0085. Please provide the Commission with a copy of all submitted comments at the address listed below. Please refer to OMB Reference No. 3038-0085, found on http://reginfo.gov. Comments may also be mailed to the Office of Information and Regulatory Affairs, Office of Management and Budget, Attention: Desk Officer for the Commodity Futures Trading Commission, 725 17th Street NW., Washington, DC 20503, and to the Commission through the Agency's Web site at http://comments.cftc.gov. Follow the instructions for submitting comments through the Web site.

Comments may also be mailed to: Christopher Kirkpatrick, Secretary of the Commission, Commodity Futures Trading Commission, Three Lafayette Centre, 1155 21st Street NW., Washington, DC 20581 or by Hand Delivery/Courier at the same address.

A copy of the supporting statements for the collection of information discussed above may be obtained by visiting http://reginfo.gov. All comments must be submitted in English, or if not, accompanied by an English translation. Comments will be posted as received to http://www.cftc.gov.

FOR FURTHER INFORMATION CONTACT: Peter A. Kals, Special Counsel, Division of Clearing and Risk, Commodity Futures Trading Commission, Three Lafayette Centre, 1155 21st Street NW., Washington, DC 20581, (202) 418-5466; email: pkals@cftc.gov and refer to OMB Control No. 3038-0085.

SUPPLEMENTARY INFORMATION:

Title: Rule 50.50 End-User Notification of Non-Cleared Swap (OMB Control No. 3038-0085). This is a request for extension of a currently approved information collection.

Abstract: Rule 50.50 specifies requirements for non-financial end-users who elect the exception from the Commission's swap clearing requirement set forth in section 2(h)(7) of the Commodity Exchange Act. Among the requirements of Rule 50.50 is reporting certain information to a swap data repository registered with the Commission.

Burden Statement: The respondent burden for this collection is estimated to require between 10 minutes and one hour per response.

Respondents/Affected Entities: Non-financial end-users.

Estimated Number of Respondents: 1,092.

Estimated Total Average Annual Burden on Respondents: 633 hours.

Frequency of Collection: On occasion; annually.

Authority: 44 U.S.C. 3501 et seq.

Dated: October 14, 2015.
Robert N. Sidman,
Deputy Secretary of the Commission.

[FR Doc. 2015-26465 Filed 10-16-15; 8:45 am]

BILLING CODE 6351-01-P